DEPARTMENT OF HEALTH AND HUMAN SERVICES

Health Resources and Services Administration

HRSA Aids Advisory Committee; Notice of Meeting

In accordance with section 10(a)(2) of the Federal Advisory Committee Act (Pub. L. 92-463), announcement is made of the following National Advisory body scheduled to meet during the month of November 2001.

Name: HRSA AIDS Advisory Committee (HAAC).

Date and Time: November 1, 2001; 8:30 a.m.-5 p.m., November 2, 2001; 8:30 a.m.-2:30 p.m.

Place: Marriott Hotel, 5151 Pooks Hill Road, Bethesda, Maryland 20814, Telephone: (301) 897-9400.

The meeting is open to the public.

Agenda: Agenda items for the meeting include reauthorization studies of the Ryan White CARE Act, new CARE Act data requirements, estimating and documenting unmet need, and discussion of HRSA and CDC collaboration.

Anyone requiring further information should contact Joan Holloway, HIV/AIDS Bureau, Parklawn Building, Room 7-13, 5600 Fishers Lane, Rockville, Maryland 20857, telephone (301) 443-5761.

Dated: October 9, 2001.
Jane Harrison,
Director, Division of Policy Review and Coordination.

[FR Doc. 01-25838 Filed 10-12-01; 8:45 am]

BILLING CODE 4165-15-P